ELECTION ASSISTANCE COMMISSION

Sunshine Act Notice

AGENCY: U.S. Election Assistance Commission.

ACTION: Notice of Public Meeting (Summit) Agenda—EAC Summit: The 2018 Federal Election.

DATE & TIME: Wednesday, January 10, 2018, 9:00 a.m.-3:30 p.m.-EDT (Registration Opens at 9:00 a.m.).

PLACE: The National Press Club, Holeman Lounge, 529 14th Street NW, 13th Floor, Washington, DC 20045.

(On Site Contact: 202-897-9285; bsoder@eac.gov).

AGENDA: Commissioners will hold a public meeting (summit) to moderate panel discussions on the following topics: (1) Election Security; (2) Voting Accessibility; and (3) Election Data.

Ahead of the 2018 midterm elections, the U.S. Election Assistance Commission (EAC) will host an all-day summit to highlight a spectrum of issues that state and local election officials will face as they work to administer a secure, accessible and efficient 2018 Election. Commissioners and attendees will hear from keynote speakers and expert panelists who will address topics such as election security, voting accessibility, and how to use election data to improve the voter experience.

This event is free and open to the public. Due to limited space, registration is strongly recommended. The summit will be recorded and available at a later date. There is no livestream scheduled.

ATTENDANCE: Attendees should register via https://www.eac.gov/events/2018/01/10/eac-summit-the-2018-federal-election-accessibility-critical-infrastructure-cybersecurity-emergencycontingency-planning-security/.

STATUS: This meeting will be open to the public.

PERSON TO CONTACT FOR INFORMATION: Bryan Whitener, Telephone: (301) 563-3961.

Signed:

Bryan Whitener,
Director of National Clearinghouse on Elections, U.S. Election Assistance Commission.

[FR Doc. 2017-28500 Filed 12-29-17; 4:15 pm]

BILLING CODE 4810-71-P